DEPARTMENT OF LABOR

Occupational Safety and Health Administration

[Docket No. ICR-1218-0226(2002)]

Manlifts Standard; Extension of the Office of Management and Budget's Approval of Information-Collection (Paperwork) Requirements

Correction

In notice document 02-8262 beginning on page 16454 in the issue of Friday, April 5, 2002, make the following correction:

On page 16454, in the first column, under the heading “DATES”, “May 6, 2002” should read, “June 4, 2002”.

[FR Doc. C2-8262 Filed 4-17-02; 8:45 am]

BILLING CODE 1505-01-D

SMALL BUSINESS ADMINISTRATION

13 CFR Part 121

RIN 3245-AE78

Small Business Size Standards; Testing Laboratories

Correction

In proposed rule document 02-8359 beginning on page 17020 in the issue of Tuesday, April 9, 2002, make the following correction:

On page 17022, “TABLE 2.” is being reprinted in its entirety.

Table 2.—Industry Characteristics of the Testing Laboratories Industry, Nonmanufacturing Anchor Group, and NAICS Sector 54
Category | Average firm size: Receipts (millions $) | Average firm size: Employees | Non payroll receipts per establishment (million $) | Four firm concentration ratio (in percent)
Testing Laboratories | 1.56 | 19.9 | 0.68 | 12.1
Nonmanufacturing Anchor Group | 0.95 | 10.6 | 0.56 | 14.4
NAICS Sector 54 | 0.77 | 7.7 | 0.45 | 15.8

[FR Doc. C2-8359 Filed 4-17-02; 8:45 am]

BILLING CODE 1505-01-D